DEPARTMENT OF THE INTERIOR

Bureau of Ocean Energy Management

[Docket No. BOEM-2024-0029]

Notice of Availability of a Final Environmental Assessment for Commercial Wind Lease and Site Assessment Activities on the Atlantic Outer Continental Shelf of the Central Atlantic

AGENCY: Bureau of Ocean Energy Management, Interior.

ACTION: Notice of availability.

SUMMARY: The Bureau of Ocean Energy Management (BOEM) announces the availability of a final environmental assessment (EA) and its finding that possible wind energy-related leasing, site assessment, and site characterization activities on the U.S. Atlantic Outer Continental Shelf (OCS) (the Proposed Action) will not significantly impact the human environment. The EA analyses the potential impacts of the Proposed Action and a No Action alternative. The EA will inform BOEM's decision whether to issue leases on the OCS offshore the U.S. Central Atlantic coast and its subsequent review of site assessment plans in the lease areas.

ADDRESSES: The final EA and associated information are available on BOEM's website at: https://www.boem.gov/renewable-energy/state-activities/central-atlantic.

FOR FURTHER INFORMATION CONTACT: Lorena Edenfield, BOEM Office of Renewable Energy Programs, 45600 Woodland Road, Sterling, Virginia 20166, (907) 231-7679 or Lorena.Edenfield@boem.gov.

SUPPLEMENTARY INFORMATION:

Proposed Action: The final EA analyzes the Proposed Action, which is to approve commercial wind energy leases in the Central Atlantic Wind Energy Areas (WEAs) and grant rights-of-way (ROWs) and rights-of-use and easement (RUEs). A BOEM-issued lease provides lessees the exclusive right to submit site assessment plans and construction and operations plans to BOEM for possible approval. A site assessment plan describes how the lessee will assess the physical characteristics of the lease area, which is a prerequisite to submitting a construction and operations plan. The EA considers the reasonably foreseeable environmental consequences associated with site characterization activities (geophysical, geotechnical, archaeological, and biological surveys) and site assessment activities (including the installation and operation of meteorological buoys). BOEM prepared an EA for this proposed action in order to inform its planning and decision-making (40 CFR 1501.5(b)).

Alternative: In addition to the Proposed Action, BOEM considered a No Action Alternative. Under the No Action Alternative, BOEM would neither approve commercial wind energy leasing nor grant ROWs and RUEs in the Central Atlantic WEAs. BOEM's preferred alternative is the Proposed Action.

Finding of no significant impact: After carefully considering the alternatives and comments from the public and cooperating and consulting agencies on the draft EA, BOEM finds that approval of commercial wind energy leasing and granting ROWs and RUEs in the lease area would not significantly impact the environment.

Availability of the final EA: The final EA and associated information are available on BOEM's website at: https://www.boem.gov/renewable-energy/state-activities/central-atlantic.

Authority: 42 U.S.C. 4231 et seq. (National Environmental Policy Act, as amended) and 40 CFR 1506.6.

Karen Baker,
Chief, Office of Renewable Energy Programs, Bureau of Ocean Energy Management.

[FR Doc. 2024-12563 Filed 6-6-24; 8:45 am]

BILLING CODE 4340-98-P